DEPARTMENT OF TRANSPORTATION

Federal Aviation Administration

14 CFR Part 39

[Docket No. FAA-2005-21713; Directorate Identifier 2005-NM-085-AD]

RIN 2120-AA64

Airworthiness Directives; Boeing Model 767-400ER Series Airplanes; and Model 777-200 and -300 Series Airplanes

AGENCY: Federal Aviation Administration (FAA), Department of Transportation (DOT).

ACTION: Notice of proposed rulemaking (NPRM).

SUMMARY: The FAA proposes to adopt a new airworthiness directive (AD) for certain Model 767-400ER series airplanes; and Model 777-200 and -300 series airplanes. This proposed AD would require, for certain airplanes, repetitive testing of the fill and safety fittings of the fire extinguishing bottles in the forward cargo compartment for leaks; and repetitive application of a corrosion inhibiting compound (CIC) or replacement of the fire extinguishing bottles with reworked fire extinguishing bottles, as necessary. For all airplanes, this proposed AD would require replacement of the fire extinguishing bottles with reworked fire extinguishing bottles, which would end the repetitive tests and CIC applications if applicable. This proposed AD is prompted by failure of the safety fittings for the fire extinguishing bottles. We are proposing this AD to prevent failure of the safety fittings for the fire extinguishing bottles due to corrosion, which could result in leakage of extinguishing agent. If a fire occurs in the cargo bay, the fire extinguishing bottles could have less than enough extinguishing agent to control a fire.

DATES: We must receive comments on this proposed AD by August 19, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, Room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact Boeing Commercial Airplanes, P.O. Box 3707, Seattle, Washington 98124-2207.

You can examine the contents of this AD docket on the Internet at http://dms.dot.gov, or in person at the Docket Management Facility, U.S. Department of Transportation, 400 Seventh Street SW., Room PL-401, on the plaza level of the Nassif Building, Washington, DC. This docket number is FAA-2005-21713; the directorate identifier for this docket is 2005-NM-085-AD.

FOR FURTHER INFORMATION CONTACT: Barbara Mudrovich, Aerospace Engineer, Cabin Safety and Environmental Systems Branch, ANM-150S, FAA, Seattle Aircraft Certification Office, 1601 Lind Avenue, SW., Renton, Washington 98055-4056; telephone (425) 917-6477; fax (425) 917-6590.

SUPPLEMENTARY INFORMATION:

Comments Invited

We invite you to submit any relevant written data, views, or arguments regarding this proposed AD. Send your comments to an address listed under ADDRESSES. Include “Docket No. FAA-2005-21713; Directorate Identifier 2005-NM-085-AD” in the subject line of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You can review DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System (DMS) receives them.

Discussion

We have received a report indicating that failed safety fittings of the fire extinguishing bottles for the forward cargo compartment were found during fleet inspection of Model 777 series airplanes. Investigation revealed that corrosion of the burst disc inside the safety fitting caused failure of the safety fittings. This condition, if not corrected, could result in leakage of fire extinguishing agent. If a fire occurs in the cargo bay, the fire extinguishing bottles could have less than enough extinguishing agent to control a fire.

Fire extinguishing bottles having a certain part number on certain Model 767-400ER series airplanes are identical to those on the affected 777-200 and -300 series airplanes. Therefore, all of these models may be subject to the same unsafe condition.

Relevant Service Information

We have reviewed the following service bulletins:

Boeing model- | Service bulletin | Date
767-400ER series airplanes | Boeing Special Attention Service Bulletin 767-26-0124 | December 5, 2002.
| Boeing Special Attention Service Bulletin 767-26-0125. | January 22, 2004.
777-200 and -300 series airplanes | Boeing Special Attention Service Bulletin 777-26-0033 | December 5, 2002.
| Boeing Service Bulletin 777-26-0034, Revision 1 | July 1, 2004.

For certain airplanes, Boeing Special Attention Service Bulletin 767-26-0124 and 777-26-0033 describe the following procedures:

• Repetitively testing the fill and safety fittings of the fire extinguishing bottles in the forward cargo compartment for leaks.

• If no leak is found or if the leak rate is below the calibrated rate specified in the service bulletin, applying a corrosion inhibiting compound (CIC) to the burst disc of the safety fitting and reidentifying the fire extinguishing bottle.

• If any leak above the calibrated rate specified in the service bulletin is found, replacing and reidentifying the fire extinguishing bottle.

Boeing Special Attention Service Bulletin 767-26-0125 and Boeing Service Bulletin 777-26-0034 describe procedures for replacing the existing fire extinguishing bottles with reworked fire extinguishing bottles. Accomplishing the replacement would end the repetitive tests and CIC applications if necessary.

Accomplishing the actions specified in the service information is intended to adequately address the unsafe condition.

Additional Sources of Service Information

Boeing Special Attention Service Bulletin 767-26-0124 refers to Kidde Aerospace Service Bulletin 473876-26-454 as an additional source of service information for testing and reidentifying the fire extinguishing bottles.

Operators should note that Revision 1, dated March 12, 2003, is the latest version of Kidde Aerospace Service Bulletin 473876-26-454.

Boeing Special Attention Service Bulletin 767-26-0125 refers to Kidde Aerospace Service Bulletin 473876-26-453, dated January 22, 2004, as an additional source of service information for reworking the fire extinguishing bottles.

Boeing Special Attention Service Bulletin 777-26-0033 refers to the following service bulletins as additional sources of service information for testing and reidentifying the fire extinguishing bottles: Kidde Aerospace Service Bulletin 473474-26-442, 473475-26-443, 473854-26-444, and 473876-26-445.

Operators should note that the latest version of these Kidde Aerospace service bulletins are all Revision 1, all dated March 12, 2003.

Boeing Special Attention Service Bulletin 777-26-0034 refers to the following service bulletins as additional sources of service information for reworking the fire extinguishing bottles: Kidde Aerospace Service 473474-26-450; 473475-26-451; 473854-26-452; 473876-26-453; all dated January 22, 2004.

FAA's Determination and Requirements of the Proposed AD

We have evaluated all pertinent information and identified an unsafe condition that is likely to exist or develop on other airplanes of this same type design. Therefore, we are proposing this AD, which would require accomplishing the actions specified in the service information described previously, except as discussed under “Differences Between the Proposed AD and Service Bulletins.”

Differences Between the Proposed AD and Service Bulletins

Boeing Special Attention Service Bulletins 767-26-0124 and 777-26-0033 specify that operators may replace the fire extinguishing bottles in accordance with the applicable Boeing Airplane Maintenance Manual (AMM), or an “operator's equivalent procedure.” However, this proposed AD only would allow an “operator's equivalent procedure” if approved as an alternative method of compliance according to paragraph (k) of this AD. Operators should also note that Boeing Special Attention Service Bulletin 767-26-0124 references the incorrect chapter of the Boeing 767 AMM for the proposed replacement. This proposed AD specifies that operators may use chapter 26-23-02/401 of the Boeing 767 AMM as one approved method for the proposed replacement.

Although Boeing Special Attention Service Bulletin 767-26-0125 and Boeing Service Bulletin 777-26-0034, Revision 1, recommend accomplishing the replacement “at the next required hydrostatic test for the fire extinguishing bottles,” we have determined that this imprecise compliance time would not address the identified unsafe condition in a timely manner. In developing an appropriate compliance time for this AD, we considered not only the manufacturer's recommendation, but also the degree of urgency associated with addressing the subject unsafe condition, the average utilization of the affected fleet, and the time necessary to perform the replacement. In light of all of these factors, we find a compliance time of 60 months for completing the required actions to be warranted, in that it represents an appropriate interval of time for affected airplanes to continue to operate without compromising safety.

Clarification of Inspection Terminology

The “inspection” specified in Boeing Special Attention Service Bulletin 767-26-0124 and 777-26-0033 is referred to as a leak test in this proposed AD. These Boeing service bulletins refer to certain Kidde Aerospace service bulletins as additional sources of service information for performing the leak test.

Costs of Compliance

There are about 322 airplanes of the affected design in the worldwide fleet. The following table provides the estimated costs, at an average labor rate of $65 per hour, for U.S. operators to comply with this proposed AD.

Estimated Costs
Airplanes | Action | Work hours | Parts | Cost per airplane | Number of U.S.-registered airplanes | Fleet cost
Model 767-400 series airplanes (for all 4 fire extinguishing bottles) | Leak test, per testing cycle | 4 | None | $260, per testing cycle | 36 | $9,360, per testing cycle.
| Replacement | 8 | $2,800 | 3,320 | 36 | 119,520.
Model 777-200 and -300 series airplanes (for all 5 fire extinguishing bottles) | Leak test, per testing cycle | 5 | None | 325, per testing cycle | 130 | 42,250, per testing cycle.
| Replacement | 10 | 3,400 | 4,050 | 131 | 530,550.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the National Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Boeing: Docket No. FAA-2005-21713; Directorate Identifier 2005-NM-085-AD.

Comments Due Date

(a) The Federal Aviation Administration (FAA) must receive comments on this AD action by August 19, 2005.

Affected ADs

(b) None.

Applicability

(c) This AD applies to the airplanes listed in Table 1 of this AD, certificated in any category:

Table 1.—Applicability
Boeing model— | As identified in—
767-400ER series airplanes | Special Attention Service Bulletin 767-26-0125, dated January 22, 2004.
777-200 and -300 series airplanes | Boeing Service Bulletin 777-26-0034, Revision 1, dated July 1, 2004.

Unsafe Condition

(d) This AD was prompted by failure of the safety fittings for the fire extinguishing bottle. We are issuing this AD to prevent failure of the safety fittings for the fire extinguishing bottles due to corrosion, which could result in leakage of extinguishing agent. If a fire occurs in the cargo bay, the fire extinguishing bottles could have less than enough extinguishing agent to control a fire.

Compliance

(e) You are responsible for having the actions required by this AD performed within the compliance times specified, unless the actions have already been done.

Service Bulletin References

(f) The term “service bulletin,” as used in this AD, means the Accomplishment Instructions of the service bulletins identified in Table 2 of this AD, as applicable:

Table 2.—Service Bulletin References
For model— | Boeing— | For the—
767-400ER series airplanes | Special Attention Service Bulletin 767-26-0124, dated December 5, 2002 | Test specified in paragraph (g) of this AD
| Special Attention Service Bulletin 767-26-0125, dated January 22, 2004 | Replacement specified in paragraph (h) of this AD.
777-200 and -300 series airplanes | Special Attention Service Bulletin 777-26-0033, dated December 5, 2002 | Test specified in paragraph (g) of this AD.
| Service Bulletin 777-26-0034, Revision 1, dated July 1, 2004 | Replacement specified in paragraph (h) of this AD.

Repetitive Testing of Fire Extinguishing Bottles

(g) For Model 767-400ER series airplanes; and Model 777-200 and -300 series airplanes identified in Boeing Special Attention Service Bulletin 777-26-0033, dated December 5, 2002: Within 18 months or 6,000 flight hours after the effective date of this AD, whichever is first, test the fill and safety fittings of the fire extinguishing bottles in the forward cargo compartment for leaks, in accordance with the service bulletin. Repeat the test thereafter at intervals not to exceed 18 months or 6,000 flight hours, whichever is first, in accordance with the service bulletin, until the replacement required by paragraph (h) of this AD is accomplished.

(1) If no leak is found or if the leak rate is below the calibrated rate specified in the service bulletin, before further flight, apply the corrosion inhibiting compound (CIC) to the burst disc of the safety fitting and reidentify the fire extinguishing bottle, in accordance with the service bulletin.

(2) If any leak above the calibrated rate specified in the service bulletin is found, before further flight, replace and reidentify the fire extinguishing bottle with new or reworked fire extinguishing bottles, in accordance with the service bulletin; except where the service bulletin specifies that the replacement may be accomplished according to an operator's “equivalent procedure,” replace in accordance with a method approved by the Manager, Seattle Aircraft Certification Office (ACO). Chapter 26-23-02/401 of Boeing 767 Airplane Maintenance Manual (AMM) or Chapter 26-23-01/401 of Boeing 777 AMM, as applicable, is one approved method.

Note 1: The Boeing service bulletins listed in Table 3 of this AD refer to certain Kidde Aerospace service bulletins, as applicable, as additional sources of service information for testing and reidentifying the fire extinguishing bottles.

Table 3.—Additional Service Information for Testing
For model— | Boeing Special Attention Service Bulletin— | Refers to Kidde Aerospace Service Bulletin—
767-400ER series airplanes | 767-26-0124, dated December 5, 2002 | 473876-26-454. Revision 1, dated March 12, 2003, is the latest version of this service bulletin.
777-200 and -300 series airplanes | 777-26-0033, dated December 5, 2002 | 473474-26-442. Revision 1, dated March 12, 2003, is the latest version of this service bulletin.
|  | 473475-26-443. Revision 1, dated March 12, 2003, is the latest version of this service bulletin.
|  | 473854-26-444. Revision 1, dated March 12, 2003, is the latest version of this service bulletin.
|  | 473876-26-445. Revision 1, dated March 12, 2003, is the latest version of this service bulletin.

Replacement of Fire Extinguishing Bottles

(h) For all airplanes: Within 60 months after the effective date of this AD, replace the existing fire extinguishing bottles with reworked fire extinguishing bottles, in accordance with the service bulletin. Replacement of a fire extinguishing bottle with a reworked fire extinguishing bottle terminates the repetitive tests and CIC applications required by paragraph (g) of this AD for that fire extinguishing bottle only.

Note 2: The Boeing service bulletins listed in Table 4 of this AD refer to certain Kidde Aerospace service bulletins, as applicable, as additional sources of service information for reworking the fire extinguishing bottles.

Table 4.—Additional Service Information for Replacement
For model— | Boeing Special Attention Service Bulletin— | Refers to Kidde Aerospace Service Bulletin-
767-400ER series airplanes | 767-26-0125, dated January 22, 2004 | 473876-26-453, dated January 22, 2004.
777-200 and -300 series airplanes | 777-26-0034, dated January 22, 2004 | 473474-26-450, dated January 22, 2004. 473475-26-451, dated January 22, 2004. 473854-26-452, dated January 22, 2004. 473876-26-453, dated January 22, 2004.

Parts Installation

(i) For all airplanes: As of the effective date of this AD, no person may install a fire extinguishing bottle, part number (P/Ns) 473474-1 and -2, P/Ns 473475-1 and -2, P/Ns 473854-1 and -2, and P/Ns 473876-1 and -2, on any airplane, unless the initial test required by paragraph (g) of this AD is accomplished.

Credit for Previous Service Bulletin

(j) For Model 777-200 series airplanes: Actions done before the effective date of this AD in accordance with Boeing Service Bulletin 777-26-0034, dated January 22, 2004, are acceptable for compliance with the corresponding requirements of this AD.

Alternative Methods of Compliance (AMOCs)

(k) The Manager, Seattle ACO, FAA, has the authority to approve AMOCs for this AD, if requested in accordance with the procedures found in 14 CFR 39.19.

Issued in Renton, Washington, on June 17, 2005.
Michael J. Kaszycki,
Acting Manager, Transport Airplane Directorate, Aircraft Certification Service.

[FR Doc. 05-13139 Filed 7-1-05; 8:45 am]

BILLING CODE 4910-13-P